ENVIRONMENTAL PROTECTION AGENCY

40 CFR Part 52

[EPA-R05-OAR-2011-0944; FRL-9648-6]

Approval and Promulgation of Air Quality Implementation Plans; Illinois; Leisure Properties LLC/D/B/A Crownline Boats; Adjusted Standard

AGENCY: Environmental Protection Agency (EPA).

ACTION: Direct final rule.

SUMMARY: EPA is approving into the Illinois State Implementation Plan (SIP) an adjusted standard for Leisure Properties LLC/D/B/A Crownline Boats (Crownline) at its West Frankfort, Illinois facility. On June 10, 2011, the Illinois Environmental Protection Agency (IEPA) submitted to EPA for approval an adjustment to the general rule, Use of Organic Material Rule, commonly known as the eight pound per hour (8 lb/hr) rule, as it applies to emissions of volatile organic matter (VOM) from Crownline's manufacturing facility. The adjusted standard relieves Crownline from being subject to the general rule for VOM emissions from its West Frankfort facility. EPA is approving this SIP revision because it will not interfere with attainment or maintenance of the ozone National Ambient Air Quality Standard (NAAQS).

DATES: This direct final rule will be effective June 19, 2012, unless EPA receives adverse comments by May 21, 2012. If adverse comments are received, EPA will publish a timely withdrawal of the direct final rule in the Federal Register informing the public that the rule will not take effect.

ADDRESSES: Submit your comments, identified by Docket ID No. EPA-R05-OAR-2011-0944, by one of the following methods:

1. www.regulations.gov: Follow the on-line instructions for submitting comments.

2. Email: blakley.pamela@epa.gov.

3. Fax: (312)692-2450.

4. Mail: Pamela Blakley, Chief, Control Strategies Section, Air Programs Branch (AR-18J), U.S. Environmental Protection Agency, 77 West Jackson Boulevard, Chicago, Illinois 60604.

5. Hand Delivery: Pamela Blakley, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2011-0944. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Carolyn Persoon, Environmental Engineer, at (312)353-8290, before visiting the Region 5 office.

FOR FURTHER INFORMATION CONTACT: Carolyn Persoon, Environmental Engineer, Control Strategies Section, Air Programs Branch (AR-18J), Environmental Protection Agency, Region 5, 77 West Jackson Boulevard, Chicago, Illinois 60604, (312)353-8290, persoon.carolyn@epa.gov.

SUPPLEMENTARY INFORMATION: Throughout this document whenever “we,” “us,” or “our” is used, we mean EPA. This supplementary information section is arranged as follows:

I. What is EPA's analysis of Crownline's adjusted standard?

II. What action is EPA taking?

III. Statutory and Executive Order Reviews

I. What is EPA's analysis of Crownline's adjusted standard?

Background of the 8 lb/hr Rule and the Adjusted Standard

EPA approved the VOM general 8 lb/hr rule into the Illinois SIP on February 21, 1980 (45 FR 11472). The rule states that “no person shall cause or allow the discharge of more than 3.6 kg/hr (8 lb/hr) of organic material into the atmosphere from any emission source * * *” The basis for this rule is prevention of ground-level ozone formation in order to meet the ozone NAAQS.

Crownline filed a petition for an adjusted standard on December 5, 2003, in accordance with section 28.1 of the Illinois Environmental Protection Act, 415 ILCS 5/28.1, and Illinois' regulations at 35 Ill. Adm. Code section 215. Section 28.1 sets out the factors that a petitioner must demonstrate to justify an adjusted standard. Crownline filed the petition describing the factors relating to its West Frankfort facility that are substantially and significantly different from the factors relied on in adopting the general rule, specifically that the general rule did not take into account the specific operations needed to make fiberglass boats. Crownline also provided an air quality impact analysis to support its petition. On April 23, 2004, the Illinois Pollution Control Board (IPCB) held a public hearing on the petition in West Frankfort, Illinois where testimony was given to support Crownline's petition. A final order by the IPCB granted Crownline an adjusted standard on July 22, 2004. Among other things, the IPCB order stated that Crownline must operate in full compliance with the Federal Maximum Achievable Control Technology (MACT) limits on volatile organic compounds (VOCs) for the specific production of fiberglass boats.

Analysis of SIP Revision for the Adjusted Standard

EPA's approval is based on consideration of whether the adjusted standard meets the requirements of section 1l0(l) of the Clean Air Act (CAA), 42 U.S.C. 4202(l). In particular, EPA considered whether exempting Crownline's West Frankfort facility from compliance with 35 Ill. Adm. Code 215.301 will impact Illinois' ability to attain and maintain the ozone NAAQS in the area in which the facility is located.

Under CAA section 110(l) the state must show that the SIP revision will not interfere with attainment and maintenance of both existing eight-hour ozone standards, which would be 75 parts per billion (ppb) promulgated in 2008 and the 84 ppb promulgated in 1997. The monitor closest to Crownline's West Frankfort facility is located in Hamilton County, Illinois. This monitor has been and currently is attaining the eight-hour ozone standards with a design value of 68 ppb for the 2008-2010 design period. See EPA's Web site on design values for ozone at http://www.epa.gov/airtrends/values.html. The IPCB order granting Crownline an adjusted standard became effective in July 2004 and Crownline has been operating in accordance with this adjusted standard since that time. As noted, the 2008-2010 design value for Hamilton County shows that the county is attaining the 2008 eight-hour ozone standard with Crownline operating in accordance with the adjusted standard. Thus, Crownline's facility in West Frankfort, Illinois has not been interfering with attainment.

To support its petition, Crownline did a conservative analysis of emissions to determine an approximate ozone contribution that would result from it operating at the maximum capacity which Crownline is allowed in its approved title V permit. EPA reviewed Crownline's analysis for the one-hour ozone standard and applied this analysis to the eight-hour ozone standard. When adding the potential contribution from Crownline to the existing monitored design value of 68 ppb, the 2008 eight-hour ozone standard of 75 ppb is still maintained even at the facility's maximum permitted emissions allowance.

Although Crownline is not required to comply with the 8 lb/hour rule, Crownline is required to operate its facility in compliance with Federal regulations of the National Emission Standards for Hazardous Air Pollutants for Boat Manufacturing set forth at 40 CFR part 63 subpart VVVV. These regulations establish emission standards for hazardous air pollutants (HAPs) at new and existing boat manufacturing facilities with resin and gel coat operations, carpet and fabric adhesive operations, or aluminum recreational boat surface coating operations and require certain operational practices, recordkeeping, and emission limits for HAPs. EPA promulgated these regulations under section 112(d) of the CAA, which contains the MACT requirement.¹ Styrene is the VOM emitted from Crownline's West Frankfort facility and styrene is also a HAP. The emissions of styrene from Crownline's West Frankfort facility are from two different types of operations: (1) Lamination process which uses a resin applied by non-atomized spray, and (2) open molding, resistant and/or high strength gel-coat. The MACT requires emission limits on the materials used in these processes, with HAPs content limited to 35% for the resin applied by non-atomized guns, and 33.4% HAPs for the gelcoat composition. These emission limits are enforceable VOM limits for the West Frankfort Facility.

¹ “Emission standards promulgated under this subsection shall require the maximum degree of reduction in emissions of the hazardous air pollutants subject to this section.” Section 112(d)(2).

II. What action is EPA taking?

EPA is approving into the Illinois SIP an adjusted standard of the 8 lb/hr general rule for VOM for Crownline. The adjusted standard sets an alternative permanent and enforceable VOM limit for Crownline that are the emission limits set in the Federal MACT (40 CFR part 63 subpart VVVV) specific to fiberglass boat manufacturing. The amendment to Illinois' SIP adding the adjusted standard is approvable because the adjusted standard will not interfere with attaining or maintaining the 75 ppb ozone standard as prescribed by section 110(l) of the CAA.

We are publishing this action without prior proposal because we view this as a noncontroversial amendment and anticipate no adverse comments. However, in the proposed rules section of this Federal Register publication, we are publishing a separate document that will serve as the proposal to approve the state plan amendment if relevant adverse written comments are filed. This rule will be effective June 19, 2012 without further notice unless we receive relevant adverse written comments by May 21, 2012. If we receive such comments, we will withdraw this action before the effective date by publishing a subsequent document that will withdraw the final action. All public comments received will then be addressed in a subsequent final rule based on the proposed action. EPA will not institute a second comment period. Any parties interested in commenting on this action should do so at this time. Please note that if EPA receives an adverse comment on an amendment, paragraph, or section of this rule and if that provision may be severed from the remainder of the rule, EPA may adopt as final those provisions of the rule that are not the subject of an adverse comment. If we do not receive any comments, this action will be effective June 19, 2012.

III. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by June 19, 2012. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: February 29, 2012.
Susan Hedman,
Regional Administrator, Region 5.

40 CFR part 52 is amended as follows:

PART 52—[AMENDED]

1. The authority citation for part 52 continues to read as follows:

Authority: 42 U.S.C. 7401 et seq.

Subpart O—Illinois

2. Section 52.720 is amended by adding paragraph (c)(190) to read as follows:

§ 52.720 Identification of plan.

* * * * *

(c) * * *

(190) On June 10, 2011, the Illinois Environmental Protection Agency submitted a revision to its state implementation plan. The revision to the SIP allows an adjusted standard to the general rule, Use of Organic Material Rule, known as the eight pound per hour (8 lb/hr) rule, for volatile organic matter, for Leisure Properties LLC/D/B/A Crownline Boats manufacturing facility located in West Frankfort, Illinois. The adjusted standard is that the facility takes an alternative standard of the emission limit requirements set forth in the MACT under 40 CFR part 63 subpart VVVV as published in 40 CFR Part 63 (§ 63.1200 to end) revised as of July 1, 2002.

(i) Incorporation by reference.

(A) July 22, 2004, Opinion and Order of the Illinois Pollution Control Board, AS-04-01, (identified in error as July 22, 2002 in the document heading), effective July 22, 2004.

(ii) Additional material.

(A) Letter from Laurel L. Kroack, Illinois Environmental Protection Agency, to Cheryl Newton, EPA, dated September 2, 2011, identifying that due to an ownership change to Crownline Boats, the Board transferred the adjusted standard to Leisure Properties LLC D/B/A Crownline Boats, which is the successor to Crownline Boats, by Board order AS04-l, effective October 7, 2010.

[FR Doc. 2012-9440 Filed 4-19-12; 8:45 am]

BILLING CODE 6560-50-P